DEPARTMENT OF TRANSPORTATION

National Highway Traffic Safety Administration

Petition for Exemption From the Federal Motor Vehicle Theft Prevention Standard; General Motors

AGENCY: National Highway Traffic Safety Administration (NHTSA), Department of Transportation (DOT).

ACTION: Grant of petition for exemption.

SUMMARY: This document grants in full the petition of General Motors Corporation (GM) for an exemption of a high-theft line, the Chevrolet Malibu, from the parts-marking requirements of the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with model year (MY) 2001.

FOR FURTHER INFORMATION CONTACT: Ms. Rosalind Proctor, Office of Planning and Consumer Programs, NHTSA , 400 Seventh Street, S.W., Washington, D.C. 20590. Ms. Proctor's telephone number is (202) 366-0846. Her fax number is (202) 493-2290.

SUPPLEMENTARY INFORMATION: In a petition dated November 19, 1999, General Motors Corporation (GM), requested an exemption from the parts-marking requirements of the Theft Prevention Standard (49 CFR Part 541) for the Chevrolet Malibu and Chevrolet Venture car lines beginning with MY 2001. The petition is pursuant to 49 CFR Part 543, Exemption From Vehicle Theft Prevention Standard, which provides for exemptions based on the installation of an antitheft device as standard equipment on a car line.

Section 33106(b)(2)(D) of Title 49, United States Code, authorized the Secretary of Transportation to grant an exemption from the parts marking requirements for not more than one additional line of a manufacturer for MYs 1997—2000. However, for a model year after MY 2000, the number of lines for which the agency can grant an exemption is to be decided after the Attorney General completes a review of the effectiveness of parts marking and antitheft devices and finds that antitheft devices are an effective substitute for parts marking. 49 U.S.C. 33103(d)(3). The Attorney General has not yet made a finding and has not decided the number of lines, if any, for which the agency will be authorized to grant an exemption. Therefore, until this decision has been made by the Attorney General, the agency will continue to grant an exemption for not more than one additional line of any manufacturer. On December 21, 1999, the agency informed GM that until an authorization level for granting parts-marking exemptions has been established by the Attorney General, GM must determine which of the two lines for MY 2001 it seeks an exemption from the parts-marking requirements. In response, on January 4, 2000, GM withdrew its petition for exemption of the Chevrolet Venture car line and requested the agency to process its petition for exemption of the Chevrolet Malibu car line for MY 2001.

GM's submittal is considered a complete petition, as required by 49 CFR Part 543.7, in that it met the general requirements contained in § 543.5 and the specific content requirements of § 543.6.

In its petition, GM provided a detailed description and diagram of the identity, design, and location of the components of the antitheft device for the new line. GM will install its Passlock antitheft device as standard equipment on its MY 2001 Chevrolet Malibu car line. GM stated that the Passlock device provides the same kind of functionality as the PASS-Key and PASS-Key II devices, which have been the basis for exemptions previously granted to GM, but features an electronically-coded lock cylinder rather than an electrically-coded ignition key. Specifically, when the sensor detects proper lock rotation, it sends a code to the body function controller. If the correct code is received, fuel is enabled. If an incorrect code is received, fuel will be disabled for a ten-minute lockout period during which any attempts to start the vehicle will be unsuccessful.

In order to ensure the reliability and durability of the device, GM conducted tests, based on its own specified standards. GM provided a detailed list of the tests conducted. GM states its belief that the device is reliable and durable since it complied with the specified requirements for each test.

The Passlock device utilizes a special lock assembly and decoder module to determine if fuel is to be enabled or disabled. Inserting and rotating the conventional key with the proper mechanical cut into the lock cylinder unlocks and releases the transmission shift lever. However, the vehicle can only be operated when the proper resistive element in the lock housing is sensed and decoded by the module. A magnet encased in the lock sensor will enable the resistive code to be read by the decoder module. If a valid resistive code is received, the decoder module sends an encoded signal to the Power Control Module to start the flow of fuel.

GM also stated that the Passlock device is designed to provide protection against any attempts to defeat it by overriding its lock assembly with an external magnet, forcibly removing the ignition lock cylinder, forcibly rotating the lock, applying a torque to the lock cylinder or its keyway, bypassing the vehicle's lock assembly electronics, or removing its battery power.

GM compared the Passlock device proposed for the Chevrolet Malibu line with its first generation PASS-Key device, which the agency has determined to be as effective in reducing and deterring motor vehicle theft as would compliance with the parts-marking requirements. GM stated that its Passlock device is activated when the owner/operator turns off the ignition of the vehicle and removes the key. According to GM, no other intentional action is necessary to achieve protection of the vehicle other than removing the key from the ignition. The PASS-Key devices are activated in the same manner. GM believes that, considering the electrical and mechanical challenges associated with defeating the Passlock, this antitheft device will be at least as effective as its PASS-Key devices.

The following GM car lines have the Passlock device as standard equipment and have been granted a full exemption from the parts-marking requirements: the Chevrolet Cavalier, beginning with MY 1997 (see 61 FR 12132, March 25, 1996), the Pontiac Sunfire, beginning with MY 1998 (see 62 FR 20240, April 25, 1997), the Oldsmobile Alero, beginning with MY 1999 (see 63 FR 24587, May 4, 1998) and the Pontiac Grand Am, beginning with MY 2000 (see 63 FR 68503, December 11, 1998). GM stated that the theft rates, as reported by the National Crime Information Center, are lower for GM models equipped with PASS-Key-like devices which have been granted exemptions from the parts-marking requirements than theft rates for similar, earlier models that have been parts-marked. Therefore, GM concludes that the PASS-Key-like devices are more effective in deterring motor vehicle theft than the parts-marking requirements of 49 CFR Part 541. GM also concluded that based on the system performance of PASS-Key-like devices on other GM models, and the similarity of design and functionality of the Passlock device on the Chevrolet Malibu to the PASS-Key device, it believes that the agency should determine that the proposed device will be at least as effective in deterring theft as the parts-marking requirements of 49 CFR Part 541.

Based on comparison of the reduction in theft rates of Chevrolet Corvettes using a passive antitheft device and an audible/visible alarm with the reduction in theft rates for the Chevrolet Camaro and Pontiac Firebird models equipped with a passive antitheft device without an alarm, GM believes that an alarm or similar attention attracting device is not necessary and does not compromise the antitheft performance of these systems.

The agency notes that the reason that the vehicle lines whose theft data GM cites in support of its petition received only a partial exemption from parts-marking was that the agency did not believe that the antitheft device on these vehicles (PASS-Key and PASS-Key II) by itself would be as effective as parts-marking in deterring theft because it lacked an alarm system. On that basis, it decided to require GM to mark the vehicle's most interchangeable parts (the engine and transmission), as a supplement to the antitheft device. Like those earlier antitheft devices GM used, the new Passlock device on which this petition is based also lacks an alarm system. Accordingly, it cannot perform one of the functions listed in 49 CFR Part 543.6(a)(3), that is, it cannot call attention to unauthorized attempts to enter or move the vehicle.

After deciding those petitions, however, the agency obtained theft data that show declining theft rates for GM vehicles equipped with either version of the PASS-Key system. Based on that data, it concluded that the lack of a visible or audible alarm had not prevented the antitheft device from being effective protection against theft and granted three GM petitions for full exemptions for car lines equipped with the PASS-Key II device. The agency granted in full the petition for the petition for the Buick Riviera and Oldsmobile Aurora car lines beginning with model year 1995, (see 58 FR 44874, August 25, 1993); the Chevrolet Lumina and Buick Regal car lines beginning with model year 1996, (see 60 FR 25938, May 15, 1995); and, the petition for the Cadillac Seville car line beginning with model year 1998, (see 62 FR 20058, April 24, 1997). In all three of those instances, the agency concluded that a full exemption was warranted because PASS-Key II had shown itself as likely as parts-marking to be effective protection against theft despite the absence of a visible or audible alarm.

The agency concludes that, given the similarities between the Passlock device and the PASS-Key and PASS-Key II systems, it is reasonable to assume that Passlock, like those systems, will be as effective as parts-marking in deterring theft. The agency believes that the device will provide the other types of performance listed in 49 CFR 543.6(a)(3): Promoting activation; preventing defeat or circumvention of the device by unauthorized persons; preventing operation of the vehicle by unauthorized entrants; and ensuring the reliability and durability of the device.

As required by 49 U.S.C. 33106 and 49 CFR 543.6(a)(4) and (5), the agency finds that GM has provided adequate reasons for its belief that the antitheft device will reduce and deter theft. This conclusion is based on the information GM provided about its antitheft device. This confidential information included a description of reliability and functional tests conducted by GM for the antitheft device and its components. GM requested confidential treatment for some of the information and attachments submitted in support of its petition. In a letter to GM dated February 28, 2000, the agency granted the petitioner's request for confidential treatment of most aspects of its petition.

For the foregoing reasons, the agency hereby grants in full GM's petition for exemption for the MY 2001 Chevrolet Malibu car line from the parts-marking requirements of 49 CFR Part 541.

If GM decides not to use the exemption for this line, it must formally notify the agency, and, thereafter, must fully mark the line as required by 49 CFR 541.5 and 541.6 (marking of major component parts and replacement parts).

NHTSA notes that if GM wishes in the future to modify the device on which this exemption is based, the company may have to submit a petition to modify the exemption. § 543.7(d) states that a Part 543 exemption applies only to vehicles that belong to a line exempted under this part and equipped with the antitheft device on which the line's exemption is based. Further, § 543.9(c)(2) provides for the submission of petitions “to modify an exemption to permit the use of an antitheft device similar to but differing from the one specified in that exemption.”

The agency did not intend in drafting Part 543 to require the submission of a modification petition for every change to the components or design of an antitheft device. The significance of many such changes could be de minimis. The agency wishes to minimize the administrative burden which § 543.9(c)(2) could place on exempted vehicle manufacturers and itself. Therefore, NHTSA suggests that if the manufacturer contemplates making any changes the effects of which might be characterized as de minimis, it should consult the agency before preparing and submitting a petition to modify.

Authority: 49 U.S.C. 33106; delegation of authority at 49 CFR 1.50.

Issued on: March 27, 2000.
Stephen R. Kratzke,
Acting Associate Administrator for Safety Performance Standards.

[FR Doc. 00-7956 Filed 3-30-00; 8:45 am]

BILLING CODE 4910-59-P